DEPARTMENT OF COMMERCE

National Oceanic and Atmospheric Administration

[RTID 0648-XA190]

Caribbean Fishery Management Council; Public Meetings

AGENCY: National Marine Fisheries Service (NMFS), National Oceanic and Atmospheric Administration (NOAA), Commerce.

ACTION: Notice of public meetings.

SUMMARY: The Caribbean Fishery Management Council's (Council) District Advisory Panels (DAPs) will hold public virtual meetings to address the items contained in the tentative agenda included in the SUPPLEMENTARY INFORMATION.

DATES: The DAPs public virtual meetings will be held as follows: St. Thomas/St. John DAP, June 8, 2020, from 10 a.m. to 12 p.m.; St. Croix DAP, June 9, 2020, from 10 a.m. to 12 p.m.; Puerto Rico DAP, June 10, 2020, from 10 a.m. to 12 p.m. All meetings will be at Eastern Day Time.

ADDRESSES: You may join the DAPs public virtual meetings (via GoToMeeting) from a computer, tablet or smartphone by entering the following address:

Monday, June 8, 2020—St. Thomas/St. John, DAP 10 a.m.-12 p.m.

Please join the meeting from your computer, tablet or smartphone. https://global.gotomeeting.com/join/114042653.

You can also dial in using your phone.

United States: +1 (872) 240-3311

Access Code: 114-042-653

You may download the GoToMeeting app to be ready when the meeting starts: https://global.gotomeeting.com/install/114042653.

Tuesday, June 9, 2020—St. Croix, DAP 10 a.m.-12 p.m.

Please join the meeting from your computer, tablet or smartphone. https://global.gotomeeting.com/join/245609085.

You can also dial in using your phone.

United States: +1 (571) 317-3122

Access Code: 245-609-085

You may download the GoToMeeting app to be ready when the meeting starts: https://global.gotomeeting.com/install/245609085.

Wednesday, June 10, 2020—Puerto Rico DAP 10 a.m.-12 p.m.

Please join the meeting from your computer, tablet or smartphone. https://global.gotomeeting.com/join/453789421.

You can also dial in using your phone.

United States: +1 (646) 749-3122

Access Code: 453-789-421

You may download the GoToMeeting app to be ready when the meeting starts: https://global.gotomeeting.com/install/453789421.

FOR FURTHER INFORMATION CONTACT: Miguel Rolón, Executive Director, Caribbean Fishery Management Council, 270 Muñoz Rivera Avenue, Suite 401, San Juan, Puerto Rico 00918-1903; telephone: (787) 398-3717.

SUPPLEMENTARY INFORMATION: The following items included in the tentative agenda will be discussed:

10 a.m.-11 a.m.

—Call to Order

—Roll Call

—Adoption of Agenda

—How the Fishing Industry is Coping with the Pandemic Impacts—Presentation by Cedric Taquin

11 a.m.-11:10 a.m.

—Break

11:10 a.m.-12 p.m.

—Island-Based FMPs Update

—Other Business

All three meetings will be discussing the same agenda items.

The order of business may be adjusted as necessary to accommodate the completion of agenda items. The meetings will begin on June 8, 2020, at 10 a.m. EDT, and will end on June 10, 2020, at 12 p.m. EDT. Other than the start time, interested parties should be aware that discussions may start earlier or later than indicated, at the discretion of the Chair.

Special Accommodations

Simultaneous interpretation will be provided. To receive interpretation in Spanish you can dial into the meeting as follows:

US/Canada: call +1-888-947-3988, when system answers, enter 1*999996#. Para interpretación en inglés marcar:

US/Canada: call +1-888-947-3988, cuando el sistema conteste, entrar el siguiente número 2*999996#.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: May 18, 2020.
Tracey L. Thompson,
Acting Deputy Director, Office of Sustainable Fisheries, National Marine Fisheries Service.

[FR Doc. 2020-11005 Filed 5-20-20; 8:45 am]

BILLING CODE 3510-22-P